DEPARTMENT OF DEFENSE

Office of the Secretary

Submission for OMB Review; Comment Request

AGENCY: Notice.

The Department of Defense has submitted to OMB for clearance, the following proposal for collection of information under the provisions of the Paperwork Reduction Act (44 U.S.C. Chapter 35).

Title, Associated Form, and OMB Number: Application for a Department of the Army Permit; ENG Form 4345; OMB Number 0710-0003.

Type of Request: Reinstatement.

Number of Respondents: 15,500.

Responses per Respondent: 1.

Annual Responses: 15,500.

Average Burden per Response: 10 hours.

Annual Burden Hours: 155,000.

Needs and Uses: The Corps of Engineers uses the information to evaluate proposed construction of filling in U.S. waters for impacts on the environment and nearby properties as required by federal law to determine if issuance of a permit is in the public interest. Respondents are private landowners, businesses, non-profit organizations, and government agencies.

Affected Public: Individuals; Business or Other For-Profit; Not-For-Profit Institutions; Farms; Federal Government; State, Local or Tribal Government.

Frequency: On Occasion.

Respondent's Obligation: Mandatory.

OMB Desk Officer: Mr. Jim Laity.

Written comments and recommendations on the proposed information collection should be sent to Mr. Laity at the Office of Management and Budget, Desk Officer for U.S. Army COE, Room 10202, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: July 14, 2000.
Patricia L. Toppings,
Alternate OSD Federal Register Liaison Officer, Department of Defense.

[FR Doc. 00-18448 Filed 7-20-00; 8:45 am]

BILLING CODE 5001-10-M